DEPARTMENT OF TRANSPORTATION

Coast Guard

[USCG 2001-8629]

Information Collections Under Review by the Office of Management and Budget (OMB): 2115-0557, 2115-0100, and 2115-0618

AGENCY: Coast Guard, DOT.

ACTION: Request for comments.

SUMMARY: In compliance with the Paperwork Reduction Act of 1995, this request for comments announces that the Coast Guard has forwarded the three Information Collection Reports (ICRs) abstracted below to OMB for review and comment. Our ICRs describe the information we seek to collect from the public. Review and comment by OMB ensure that we impose only paperwork burdens commensurate with our performance of duties.

DATES: Please submit comments on or before June 7, 2001.

ADDRESSES: Please send comments to (1) the Docket Management System (DMS), U.S. Department of Transportation (DOT), room PL-401, 400 Seventh Street SW., Washington, DC 20590-0001; and (2) the Office of Information and Regulatory Affairs (OIRA), Office of Management and Budget (OMB), 725 17th Street NW., Washington, DC 20503, to the attention of the Desk Officer for the USCG.

Copies of the complete ICRs are available for inspection and copying in public docket USCG 2001-8629 of the Docket Management Facility between 10 a.m. and 5 p.m., Monday through Friday, except Federal holidays; for inspection and printing on the internet at http://dms.dot.gov; and for inspection from the Commandant (G-CIM-2), U.S. Coast Guard, room 6106, 2100 Second Street SW., Washington, DC, between 10 a.m. and 4 p.m., Monday through Friday, except Federal holidays.

FOR FURTHER INFORMATION CONTACT: Barbara Davis, Office of Information Management, 202-267-2326, for questions on this document; Dorothy Beard, Chief, Documentary Services Division, U.S. Department of Transportation, 202-366-5149, for questions on the docket.

SUPPLEMENTARY INFORMATION

Regulatory History

This request constitutes the 30-day notice required by OMB. The Coast Guard has already published (66 FR 10768 (February 16, 2001)) the 60-day notice required by OMB. That notice elicited no comments.

Request for Comments

The Coast Guard invites comments on the proposed collections of information to determine whether the collections are necessary for the proper performance of the functions of the Department. In particular, the Coast Guard would appreciate comments addressing: (1) The practical utility of the collections; (2) the accuracy of the Department's estimated burden of the collections; (3) ways to enhance the quality, utility, and clarity of the information that is the subject of the collections; and (4) ways to minimize the burden of collections on respondents, including the use of automated collection techniques or other forms of information technology.

Comments, to DMS or OIRA, must contain the OMB Control Numbers of all ICRs addressed. Comments to DMS must contain the docket number of this request, USCG 2001-8629. Comments to OIRA are best assured of having their full effect if OIRA receives them 30 or fewer days after the publication of this request.

Information Collection Requests

1. Title: Advance Notice of Vessels' Arrival and Departure.

OMB Control Number: 2115-0557.

Type of Request: Extension of a currently approved collection.

Affected Public: Owners and operators of vessels.

Forms: This collection of information does not require the public to fill out Coast Guard forms, but does require certain vessels bound for ports or places in the United States to provide advance notice of arrival to the Coast Guard's Captains of the Ports.

Abstract: The Ports and Waterways Safety Act authorizes the Coast Guard to require pre-arrival message or messages from any vessel entering a port or place in the United States.

Annual Estimated Burden Hours: The estimated burden is 21,288 hours a year.

2. Title: Carriage of Bulk Solids Requiring Special Handling—46 CFR part 148.

OMB Control Number: 2115-0100.

Type of Request: Extension of a currently approved collection.

Affected Public: Owners and operators of vessels that carry certain bulk solids.

Form: This collection of information does not require the public to fill out Coast Guard forms, but does require the shipping industry to apply for special permits to ship hazardous materials in bulk solid form.

Abstract: The information in the application for a special permit allows the Coast Guard to: (1) Determine the severity of the hazard posed by the material; (2) set specific guidelines for safe carriage; or, (3) if the material presents too great a hazard, deny permission for shipping the material.

Annual Estimated Burden Hours: The estimated burden is 830 hours a year.

3. Title: Questionnaire on Boating Statistics.

OMB Control Number: 2115-0618.

Type of Request: Extension of a currently approved collection.

Affected Public: Recreational boaters.

Form: CG-5599.

Abstract: The Office of Boating Safety of the Coast Guard may collect, analyze, and annually publish statistical information on recreational-boating accidents (46 U.S.C. 6102 (b)). Accordingly, the Coast Guard publishes an annual report, Boating Statistics (COMDTPUBP16754). This report contains statistics and other information on recreational-boating accidents. The statistics are derived from data on Recreational Boating Accident Reports submitted by the States, the District of Columbia, and the five U.S. Territories.

Annual Estimated Burden Hours: The estimated burden is 320 hours a year.

Dated: May 2, 2001.
V.S. Crea,
Director of Information and Technology.

[FR Doc. 01-11491 Filed 5-7-01; 8:45 am]

BILLING CODE 4910-15-U